DEPARTMENT OF LABOR

Employment and Training Administration

[TA-W-70,587]

Bourns, Inc., Automotive Division, Including On-Site Leased Workers from Manpower and Spherion,Janesville, WI; Amended Certification Regarding Eligibility To Apply for Worker Adjustment Assistance

In accordance with Section 223 of the Trade Act of 1974, as amended (“Act”), 19 U.S.C. 2273, the Department of Labor issued a Certification of Eligibility to Apply for Worker Adjustment Assistance on June 24, 2009, applicable to workers of Bourns, Inc., Automotive Division, including on-site leased workers from Manpower and Spherion, Janesville, Wisconsin. The notice was published in the Federal Register on August 19, 2009 (74 FR 41935).

At the request of the State Agency, the Department reviewed the certification for workers of the subject firm. The workers are engaged in the production of electronic sensor assemblies.

The review shows that on January 23, 2007, a certification of eligibility to apply for adjustment assistance was issued for all workers of Bourns, Inc., formerly known as SSI Technologies, Inc., Bourns Automotive Division, Janesville, Wisconsin, separated from employment on or after December 19, 2005 through January 23, 2009. The notice was published in the Federal Register on February 14, 2007 (72 FR 7087).

In order to avoid an overlap in worker group coverage, the Department is amending the May 22, 2008 impact date established for TA-W-70,587, to read January 24, 2009.

The amended notice applicable to TA-W-70,587 is hereby issued as follows:

“All workers of Bourns, Inc., Automotive Division, including on-site leased workers from Manpower and Spherion, Janesville, Wisconsin, who became totally or partially separated from employment on or after January 24, 2009, through June 24, 2011, and all workers in the group threatened with total or partial separation from employment on the date of certification through two years from the date of certification, are eligible to apply for adjustment assistance under Chapter 2 of Title II of the Trade Act of 1974, as amended.”

Signed in Washington, DC, this 25th day of August 2009.
Elliott S. Kushner,
Certifying Officer, Division of Trade Adjustment Assistance.

[FR Doc. E9-22752 Filed 9-21-09; 8:45 am]

BILLING CODE 4510-FN-P